INTERNATIONAL TRADE COMMISSION

[Inv. No. 337-TA-428]

Certain Integrated Circuit Chipsets, Components Thereof and Products Containing Same; Notice of Commission Decision Not To Review an Initial Determination Terminating the Investigation

AGENCY: U.S. International Trade Commission.

ACTION: Notice.

SUMMARY: Notice is hereby given that the U.S. International Trade Commission has determined not to review the presiding administrative law judge's (“ALJ's”) initial determination (“ID”) terminating the investigation in its entirety based on a settlement agreement.

FOR FURTHER INFORMATION CONTACT: Clara Kuehn, Office of the General Counsel, U.S. International Trade Commission, 500 E Street, SW, Washington, DC 20436, telephone (202) 205-3012. Hearing-impaired persons are advised that information on this matter can be obtained by contacting the Commission's TDD terminal on 202-205-1810. General information concerning the Commission may also be obtained by accessing its Internet server (http://www.usitc.gov).

SUPPLEMENTARY INFORMATION: The Commission ordered the institution of this investigation on February 4, 2000, based on a complaint filed by Intel Corporation of Santa Clara, California (“Intel”). 65 FR 7059 (2000). The complaint named five respondents: VIA Technologies, Inc., of Taipei, Taiwan; VIA Technologies, Inc., of Fremont, California (collectively, “VIA”); First International Computer, Inc., of Taipei, Taiwan; First International Computer of America, Inc., of Fremont, California (collectively “FIC”); and Everex Systems, Inc., of Fremont, California (“Everex”). Id.

On July 5, 2000, complainant Intel and respondents VIA, FIC, and Everex filed a joint motion to terminate the investigation by settlement. On July 17, 2000, the Commission investigation attorneys filed a response supporting the joint motion. On July 26, 2000, the presiding ALJ issued an ID (Order No. 16) granting the joint motion. No party petitioned for review of the ID.

The authority for the Commission's determination is contained in section 337 of the Tariff Act of 1930, as amended (19 U.S.C. 1337), and in section 210.42 of the Commission's Rules of Practice and Procedure (19 C.F.R. 210.42). Copies of the ALJ's ID and all other nonconfidential documents filed in connection with this investigation are or will be available for inspection during official business hours (8:45 a.m. to 5:15 p.m.) in the Office of the Secretary, U.S. International Trade Commission, 500 E Street, SW, Washington, DC 20436, telephone 202-205-2000.

Issued: August 22, 2000.
By order of the Commission.
Donna R. Koehnke,
Secretary.

[FR Doc. 00-21768 Filed 8-24-00; 8:45 am]

BILLING CODE 7020-02-P